ARMED FORCES RETIREMENT HOME

Senior Executive Service; Combined Performance Review Board (PRB)

AGENCY: Armed Forces Retirement Home.

ACTION: Notice of Members of the Armed Forces Retirement Home Review Board (PRB).

SUMMARY: Pursuant to U.S.C. 431(c)(4), this notice announces the appointment of members of the combined PRB for the Armed Forces Retirement Home. The Board reviews the performance appraisals of career and non-career senior executives. The Board recommendations regarding proposed performance appraisals, ratings, bonuses and other appropriate personnel actions.

Composition of PRB: The Board shall consist of at least three voting members. In the case of an appraisal appointee, more than half of the members shall consist of career appointees. The names and titles of the PRB members are as follows:

Primary Members

Cynthia Z. Springer, Executive Director, Administrative Resource Center, Bureau of Public Debt Debra L. Hines, Assistant Commissioner, Office of Public Debt Accounting, Bureau of Public Debt Kimberly A. McCoy, Assistant Commissioner, Office of Information Technology, Bureau of Public Debt.

Alternate Members

Keith Rake, Deputy Executive Director, Administrative Resource Center, Bureau of Public Debt Matt Miller, Deputy Assistant Commissioner, Office of Information Technology, Bureau of Public Debt.

DATES: Membership is effective on the date of this notice.

FOR FURTHER INFORMATION CONTACT: Steven McManus, Acting Chief Operating Officer, Armed Forces Retirement Home, Box 1303, Washington, DC 20011, (202) 730-3533.

This notice does not meet the Armed Forces Retirement Home's criteria for significant regulations.

Dated: March 17, 2011.
Steve McManus,
Acting Chief Operating Officer, Armed Forces Retirement Home.

[FR Doc. 2011-7719 Filed 4-1-11; 8:45 am]

BILLING CODE 8250-01-M